POSTAL SERVICE

39 CFR Part 265

Production or Disclosure of Material or Information; Technical Correction

AGENCY: Postal Service™.

ACTION: Final rule; technical correction.

SUMMARY: The Postal Service is making a technical correction to its regulations concerning the Freedom of Information Act.

DATES: Effective March 27, 2017.

FOR FURTHER INFORMATION CONTACT: Natalie A. Bonanno, Chief Counsel, Federal Compliance, natalie.a.bonanno@usps.gov, 202-268-2944.

SUPPLEMENTARY INFORMATION: On November 30, 2016 (81 FR 86270), the Postal Service published its revised Freedom of Information Act (FOIA) regulations to comply with the FOIA Improvement Act of 2016 (FOIAIA), effective December 27, 2016. In response to public comments, the Postal Service published an additional change to these regulations on January 10, 2017 (82 FR 2896). After further review, the Postal Service published miscellaneous technical corrections to its regulations on March 8, 2017 (82 FR 12921). The Postal Service is now making a further technical correction to these regulations.

Currently, in defining what records are excluded from the requirements of the FOIA, and thus should not be considered responsive to a request for disclosure, § 265.4(a) cites both 5 U.S.C. 552(c) and 39 U.S.C. 410(c). This citation is in error, because section 410(c) is an exempting statute, not an exclusionary one. This amendment corrects that error.

List of Subjects in 39 CFR Part 265

Administrative practice and procedure, Courts, Freedom of information, Government employees.

For the reasons stated in the preamble, the Postal Service amends 39 CFR part 265 as follows:

PART 265—[AMENDED]

1. The authority citation for 39 CFR part 265 continues to read as follows:

Authority: 5 U.S.C. 552; 5 U.S.C. App. 3; 39 U.S.C. 401, 403, 410, 1001, 2601; Pub. L. 114-185.

§ 265.4 [Amended]

2. In § 265.4(a), remove the words “or 39 U.S.C. 410(c)” from the final sentence.

Stanley F. Mires,
Attorney, Federal Compliance.

[FR Doc. 2017-05916 Filed 3-24-17; 8:45 am]

BILLING CODE 7710-12-P